POSTAL SERVICE

International Product Change—GEPS 6 Contracts

AGENCY: Postal Service™.

ACTION: Notice.

SUMMARY: The Postal Service gives notice of filing a request with the Postal Regulatory Commission to add Global Expedited Package Services 6 Contracts to the Competitive Products List.

DATES: Effective date: June 17, 2016.

FOR FURTHER INFORMATION CONTACT: Kyle Coppin, (202) 268-2368.

SUPPLEMENTARY INFORMATION: The United States Postal Service® hereby gives notice that, pursuant to 39 U.S.C. 3642, on May 31, 2016, it filed with the Postal Regulatory Commission a Request of The United States Postal Service to add Global Expedited Package Services 6 Contracts to the Competitive Products List. Documents are available at www.prc.gov, Docket Nos. MC2016-149 and CP2016-188.

Stanley F. Mires,
Attorney, Federal Compliance.

[FR Doc. 2016-14375 Filed 6-16-16; 8:45 am]

BILLING CODE 7710-12-P